DEPARTMENT OF THE INTERIOR

National Park Service

Right of Way Request, Environmental Assessment or Environmental Impact Statement, Chesapeake and Ohio Canal National Historical Park; Correction

AGENCY: National Park Service, Interior.

ACTION: Notice; correction.

SUMMARY: The National Park Service published a document in the Federal Register of September 13, 2002, concerning request for comments on a Right of Way Request, Environmental Assessment or Environmental Impact Statement at Chesapeake and Ohio Canal National Historical Park. The second and third sentences of the first paragraph of the Summary were incorrect.

FOR FURTHER INFORMATION CONTACT: Kevin Brandt, 301-714-2201.

Correction

In the Federal Register of September 13, 2002, in FR Doc. 02-23370, on page 58072, in the second column, correct the first paragraph of the SUMMARY by eliminating the second and third sentences and inserting the following sentence to read:

The area under consideration for the proposed crossing is between the U.S. 15 bridge area and the Nolands Ferry boat ramp area along the canal near the community of Point of Rocks in Frederick County, Maryland.

Dated: September 13, 2002.
Kevin Brandt,
Assistant Superintendent, Chesapeake and Ohio Canal National Historical Park.

[FR Doc. 02-24068 Filed 9-20-02; 8:45 am]

BILLING CODE 4310-70-P